DEPARTMENT OF TRANSPORTATION

National Highway Traffic Safety Administration

[Docket No. NHTSA-2004-17022; Notice 2]

Decision That Nonconforming 1997 Land Rover Defender 90 Multi-Purpose Passenger Vehicles Are Eligible for Importation

AGENCY: National Highway Traffic Safety Administration, DOT.

ACTION: Notice of decision by National Highway Traffic Safety Administration that nonconforming 1997 Land Rover Defender 90 multi-purpose passenger vehicles are eligible for importation.

SUMMARY: This document announces a decision by the National Highway Traffic Safety Administration (NHTSA) that certain 1997 Land Rover Defender 90 multi-purpose passenger vehicles (MPVs) that were not originally manufactured to comply with all applicable Federal motor vehicle safety standards (FMVSS) are eligible for importation into the United States because they are substantially similar to vehicles originally manufactured for importation into and sale in the United States and that were certified by their manufacturer as complying with the safety standards (the U.S. certified version of the 1997 Land Rover Defender 90 MPV), and they are capable of being readily altered to conform to the standards.

DATES: This decision was effective March 18, 2004.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and sale in the United States, certified as required under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Barry W. Taylor Enterprises, Inc., of Richmond, California (“BTE”) (Registered Importer 01-280), petitioned NHTSA to decide whether 1997 Land Rover Defender 90 MPVs are eligible for importation into the United States. NHTSA published notice of the petition on February 12, 2004 (69 FR 7066) to afford an opportunity for public comment. The reader is referred to that notice for a thorough description of the petition.

One comment was received in response to the notice of the petition, from J.K. Technologies, L.L.C., of Baltimore, Maryland (“JK”), another Registered Importer. In this comment, JK asserted, on the basis of information from the 1998 edition of the National Insurance Crime Bureau (NICB) Passenger Vehicle Identification Manual, that the vehicle manufacturer had not originally manufactured for importation into, and sale in, the United States Land Rover Defender 90 model MPVs during the 1997 model year. JK observed that owing to the absence of a substantially similar U.S. certified version of the vehicle, the petition should be processed under 49 U.S.C. 30141(a)(1)(B), instead of 49 U.S.C. 30141(a)(1)(A).

NHTSA subsequently contacted Land Rover North America (“LRNA”), the U.S. representative of the manufacturer of the Land Rover Defender 90 MPV, to learn whether the company had originally manufactured for importation into and sale in the United States Land Rover Defender 90 model MPVs as 1997 model year vehicles. LRNA stated in response that they had in fact imported into the United States for sale Defender 90 model MPVs that it designated as model year 1997 vehicles. Noting that similar vehicles were manufactured for many markets around the world, LRNA stated that only those with the vehicle identification number (“VIN”) prefix “SALDV224*VA” or “SALDV324*VA” should be considered substantially similar to vehicles originally manufactured for importation into and sale in the U.S., and as having the capability of being modified to comply with the FMVSS in the manner described in the subject petition.

LRNA called into question the petition's claim that the vehicles may require modification to conform to FMVSS No. 118 Power-Operated Window, Petition, and Roof Panel Systems in light of the fact that the 1997 Defender 90 model MPVs that were imported and sold in the United States were not equipped with power operated window systems.

In addition, LRNA stated that because none of the 1997 Defender 90 model MPVs were equipped with automatic restraint systems, only those manufactured prior to September 1, 1997, were imported for sale into the United States.

In view of JK's comments, and the LRNA response, NHTSA has decided to grant import eligibility only to 1997 Land Rover Defender 90 MPVs identified by VIN prefix “SALDV224*VA” or “SALDV324*VA” that were manufactured prior to September 1, 1997.

Vehicle Eligibility Number for Subject Vehicles

The importer of a vehicle admissible under any final decision must indicate on the form HS-7 accompanying entry the appropriate vehicle eligibility number indicating that the vehicle is eligible for entry. VSP-432 is the vehicle eligibility number assigned to vehicles admissible under this notice of final decision.

Final Decision

Accordingly, on the basis of the foregoing, NHTSA hereby decides that 1997 Land Rover Defender 90 MPVs that were not originally manufactured to comply with all applicable FMVSS, but that have been assigned VIN prefix “SALDV224*VA” or “SALDV324*VA” and were manufactured prior to September 1, 1997, are substantially similar to 1997 Land Rover Defender 90 MPVs originally manufactured for importation into and sale in the United States and certified under 49 U.S.C. 30115, and are capable of being readily altered to conform to all applicable FMVSS.

Authority: 49 U.S.C. 30141(a)(1)(A) and (b)(1); 49 CFR 593.8; delegations of authority at 49 CFR 1.50 and 501.8.

Claude H. Harris,
Director, Office of Vehicle Safety Compliance.

[FR Doc. 05-15480 Filed 8-4-05; 8:45 am]

BILLING CODE 4910-59-P